DEPARTMENT OF TRANSPORTATION

Surface Transportation Board

[Docket No. FD 35979]

R.J. Corman Railroad Company/Carolina Lines, LLC—Modified Certificate of Public Convenience and Necessity—Horry County, S.C.

On November 25, 2015, R.J. Corman Railroad Company/Carolina Lines, LLC (RJCS), a Class III rail carrier, filed a notice for a modified certificate of public convenience and necessity, pursuant to 49 CFR pt. 1150 subpart C—Modified Certificate of Public Convenience and Necessity, to operate approximately 11.5 miles of rail line owned by Horry County, S.C., and located between RJCS's line at Station 9+34.65 (milepost 336.18) in the City of Conway, S.C., and the beginning of the concrete bridge deck on the Conway side of the Pine Island Bascule Bridge over the Intracoastal Waterway at Station 609+91 (milepost 347.55) (the Line).

The Line was authorized for abandonment by the Board's predecessor, the Interstate Commerce Commission, in Seaboard System Railroad Inc.—Abandonment—in Horry County, S.C., AB-55 (Sub-No. 107) (ICC served Sept. 12, 1984). According to RJCS, Horry County, a political subdivision of the State of South Carolina, purchased the Line in 1984 pursuant to 49 CFR 1150.22 after it was abandoned by the Seaboard System Railroad.¹

¹ The Waccamaw Coast Line Railroad (WCLR), a division of the Baltimore and Annapolis Railroad Company, previously operated the Line pursuant to a modified certificate of public convenience and necessity obtained in 2001. See Waccamaw Coast Line R.R.—Modified Rail Certificate, FD 34064 (STB served July 13, 2001). WCLR provided notice to terminate its service on the Line on December 11, 2013, which became effective on February 9, 2014. See Waccamaw Coast Line R.R.—Modified Rail Certificate, FD 34064 et al., slip op. at 1 (STB served Jan. 31, 2014).

Pursuant to a Lease Agreement entered into between R.J. Corman Railroad Company, LLC (R.J. Corman), and Horry County, dated September 16, 2015, R.J. Corman will lease and maintain the Line for an initial term of 15 years with the option to renew the agreement for up to an additional 15 years. The Lease Agreement grants Horry County the right to cancel the lease upon 180-days written notice.

In a Lease Addendum and Assignment Agreement, dated November 6, 2015, R.J. Corman assigned its rights and obligations under the Lease Agreement to RJCS, with the written consent of Horry County. According to RJCS, under the terms of the agreement, RJCS has the exclusive right and responsibility to provide common carrier rail freight service on the Line to both existing and prospective customers that have facilities served by sidetracks or other connections to the Line. RJCS states that it must rehabilitate the Line before it can safely provide service and hopes that rehabilitation of the Line will be completed in January of 2016.

The Line qualifies for a modified certificate of public convenience and necessity. See Common Carrier and 49 CFR 1150.22. RJCS states that it will receive no subsidies in connection with its operations and that there will be no preconditions that shippers must meet to receive service.

This notice will be served on the Association of American Railroads (Car Service Division) as agent for all railroads subscribing to the car-service and car-hire agreement at 425 Third Street SW., Suite 1000, Washington, DC 20024; and on the American Short Line and Regional Railroad Association at 50 F Street NW., Suite 7020, Washington, DC 20001.

Board decisions and notices are available on our Web site at “WWW.STB.DOT.GOV.”

Decided: December 22, 2015.
By the Board, Rachel D. Campbell, Director, Office of Proceedings.
Tia Delano,
Clearance Clerk.

[FR Doc. 2015-32615 Filed 12-24-15; 8:45 am]

BILLING CODE 4915-01-P